NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the University of Maryland by NSF Division of Materials Research (DMR) #1203.

Dates & Times: Monday, May 18, 2009; 7:45 a.m.-8:30 p.m., Tuesday, May 19, 2009; 8 a.m.-3:30 p.m.

Place: University of Maryland, College Park, MD.

Type of Meeting: Part-open.

Contact Person: Dr. Charles Ying, Program Director, Materials Research Science and Engineering Centers Program, Division of Materials Research, Room 1065, National Science Foundation, 4201 Wilson Boulevard, Arlington, VA 22230, Telephone (703) 292-8428.

Purpose of Meeting: To provide advice and recommendations concerning further support of the MRSEC at the University of Maryland.

Agenda

Monday, May 18, 2009

7:45 a.m.-9 a.m. Closed—Executive Session

9 a.m.-4:30 p.m. Open—Review of the Maryland MRSEC

4:30 p.m.-6 p.m. Closed—Executive Session

6 p.m.-8:30 p.m. Open—Poster Session and Dinner

Tuesday, May 19, 2009

8 a.m.-9 a.m. Closed—Executive session

9 a.m.-10:30 a.m. Open—Review of the Maryland MRSEC

10:30 a.m.-3:30 p.m. Closed—Executive Session, Draft and Review Report

Reason for Closing: The work being reviewed may include information of a proprietary or confidential nature, including technical information; financial data, such as salaries and personal information concerning individuals associated with the proposals. These matters are exempt under 5 U.S.C. 552 b(c), (4) and (6) of the Government in the Sunshine Act.

Dated: April 14, 2009.
Susanne Bolton,
Committee Management Officer.

[FR Doc. E9-8812 Filed 4-16-09; 8:45 am]

BILLING CODE 7555-01-P